DEPARTMENT OF VETERANS AFFAIRS

Privacy Act of 1974; System of Records

AGENCY: Department of Veterans Affairs.

ACTION: Notice of new systems of records.

SUMMARY: The Privacy Act of 1974 (5 U.S.C. 552(3)(4)) requires that all agencies publish in the Federal Register a notice of the existence and character of their systems of records. Notice is hereby given that the Department of Veterans Affairs (VA) is establishing a new system of records titled “Human Resources Information Systems Shared Service Center (HRIS SSC)—VA”—(171VA056A).

DATES: Comments on this new system of records must be received no later than November 22, 2013. If no public comment is received during the period allowed for comment or unless otherwise published in the Federal Register by VA, the new system will become effective November 22, 2013.

ADDRESSES: Written comments concerning the proposed new system of records may be submitted through www.regulations.gov; by mail or hand-delivery to Director, Regulation Policy and Management (02REG), Department of Veterans Affairs, 810 Vermont Avenue NW., Room 1068, Washington DC 20420; or by fax to (202) 273-9026. All comments received will be available for public inspection in the Office of Regulation Policy and Management, Room 1063B, between the hours of 8:00 a.m. and 4:30 p.m., Monday through Friday (except holidays). Please call (202) 461-4902 for an appointment (this is not a toll-free number). In addition, during the comment period, comments may be viewed online through the Federal Docket Management System at www.regulations.gov.

FOR FURTHER INFORMATION CONTACT: Terese A. Bell, Human Resources Specialist, Human Resources Information Service, Department of Veterans Affairs, 810 Vermont Avenue NW., Washington, DC 20420, telephone (414) 336-1910 or Jean Hayes, Privacy Officer, Office of Human Resources Management, 810 Vermont Avenue NW., Washington, DC 20420, telephone (202) 461-7863.

SUPPLEMENTARY INFORMATION:

I. Description of Proposed Systems of Records

The HRIS SSC is a Department of Veterans Affairs Human Capital information system that has been acquired from a private-sector provider through an Interagency Agreement with the General Services Administration (GSA). The HRIS SSC is considered a major application and will provide personnel action and benefits processing for all of VA's 320,000+ employees, and approximately 100,000+ clinical trainees. The system will not be used for managing contractor or volunteer elements of the VA labor force.

The HRIS SSC contains VA position and employee data, such as name, compensation data, and benefits information. [Note: name and compensation information is subject to disclosure under the Freedom of Information Act, and is routinely provided by the Office of Personnel Management to the media on request.] Additional information includes Social Security Number, VA Employee Identification Number, and voluntarily self-reported Race, National Original and Ethnicity data. Such data are considered to be Personally Identifiable Information (PII), and are the most sensitive information elements included in the system. There is no Protected Health Information (PHI) stored in the system.

II. Proposed Routine Use of Data in the System

Records in this system have various uses, including screening qualifications of employees; determining status eligibility, and rights and benefits under pertinent laws and regulations governing Federal employment; computing length of service; and other information needed to provide personnel services.

1. All of the information contained in this system of records is used for official purposes of VA; all such uses of information are compatible with the purposes for which the information was collected.

2. To produce and maintain the official personnel records, including reports and statistical data, of VA employees for use by Federal, State and local agencies and organizations authorized by law or regulation to have access to such information. These records may be disclosed as part of an ongoing matching program to accomplish these purposes. This routine use does not authorize the disclosure of information that must be disclosed under the criteria contained in 5 U.S.C. 552a (b) (7), (8), and (11).

3. To transfer personnel data to the Office of Personnel Management (OPM) in order to provide OPM with a readily accessible major data source for meeting the work force information needs of OPM, national planning agencies, the Congress, the White House and the public.

4. VA, on its own initiative, may disclose any information in this system which is relevant to a suspected violation or reasonable imminent violation of law, whether civil, criminal, or regulatory in nature, and whether arising by general or program statute or by regulation, rule, or order issued pursuant thereto, to any Federal, foreign, State, tribal or local government agency charged with responsibility of investigating or prosecuting such violations, or charged with enforcing or implementing the statute, rule, regulation, or order.

5. A record from this system of records may be disclosed as a routine use to a Federal, State or local agency, or to a non-governmental organization maintaining civil, criminal or other relevant information, such as current licenses, registration or certification, if necessary to obtain information relevant to an agency decision concerning the hiring or retention of an employee, the use of an individual as a consultant, attending or to provide fee basis health care, the issuance of a security clearance, the letting of a contract, or the issuance of a license, grant or other benefits. These records may also be disclosed as part of an ongoing computer matching program to accomplish these purposes.

6. A record from this system of records may be disclosed to a Federal, State or local agency, in response to its request, in connection with the hiring or retention of an employee, the issuance of a security clearance, the conducting of a security or suitability investigation of an individual, the letting of a contract or the issuance of a license, grant or other benefit by the requesting agency, to the extent that the information is relevant and necessary to the requesting agency's decision on the matter.

7. The record of an individual who is covered by this system may be disclosed to a Member of Congress or a staff person acting for a Member, when the Member or staff person requests the record on behalf of, and at the written request of, the individual.

8. Information and records in this system may be disclosed to the National Archives and Records Administration (NARA) and GSA in records management inspections conducted under the authority of 44 U.S.C. 2906 and the implementing regulations.

9. To transfer human resources and payroll information to complete payroll Checks and direct deposit/electronic funds transfer (DD/EFT), bond deductions, and withholding taxes to the Defense Finance Accounting System (DFAS) to effect delivery of salary payments to VA employees.

10. Transfer payroll information to the Social Security Administration in order to credit quarterly posting for social security.

11. Relevant information from this system of records, including the nature and amount of a financial obligation may be disclosed as a routine use in order to assist VA in the collection of unpaid financial obligations owed to VA, to a debtor's employing agency or commanding officer. This purpose is consistent with the Governmentwide debt collection standards set forth at 31 U.S.C. Chapter 37, subchapters I and II, 31 CFR parts 900-904, and VA regulations 38 CFR 1.900-1.954.

12. To provide State and local taxing authorities with employee names, home addresses, social security numbers, gross compensation paid for a given period, taxes withheld for the benefit of the recipient jurisdiction or other jurisdictions, according to the provisions of State and/or local law.

13. Records from this system of records may be disclosed to a Federal, State or local government agency or licensing board and/or to the Federation of State Medical Boards or a similar nongovernment entity. These entities maintain records concerning an individual's employment or practice histories or concerning the issuance, retention or revocation of licenses, certifications, or registration necessary to practice an occupation, profession or specialty. Disclosures may be made in order for the agency to obtain information determined relevant to an agency decision concerning the hiring, retention or termination of an employee. Disclosures may also be made to inform a Federal Agency or licensing boards or the appropriate nongovernment entities about the health care practices of a terminated, resigned or retired health care employee whose professional health care activity so significantly failed to conform to generally accepted standards of professional medical practice as to raise reasonable concern for the health and safety of patients. These records may also be disclosed as part of an ongoing computer matching program to accomplish these purposes.

14. Any information in this system of records may be disclosed to any State, local, or foreign civil or criminal law enforcement governmental agency or instrumentality charged under applicable law with the protection of the public health or safety for the purpose of protecting public health or safety if qualified representatives of such agency or instrumentality has made a written request that such information be provided in order to meet a statutory reporting requirement.

15. Identifying information in this system, including name, address, social security number and other information as is reasonably necessary to identify such individual, may be disclosed to the National Practitioner Data Bank at the time of hiring and/or clinical privileging/re-privileging of health care practitioners, and other times as deemed necessary by VA in order for VA to obtain information to make a decision concerning the hiring, privileging/re-privileging, retention or termination of the applicant or employee.

16. Relevant information from this system of records may be disclosed to the National Practitioner Data Bank and/or State Licensing Board in the State(s) in which a practitioner is licensed, in which the VA facility is located, and/or in which an act or omission occurred upon which a medical malpractice claim was based when VA reports information concerning: (1) Any payment for the benefit of a physician, dentist, or other licensed health care practitioner which was made as the result of a settlement or judgment of a claim of medical malpractice if an appropriate determination is made in accordance with agency policy that payment was related to substandard care, professional incompetence or professional misconduct on the part of the individual; (2) a final decision which relates to possible incompetence or improper professional conduct that adversely effects the clinical privileges of a physician or other licensed health care practitioner for a period longer than 30 days; or (3) the acceptance of the surrender of clinical privileges or any restriction of such privileges by a physician or other licensed health care practitioners either while under investigation by the health care entity relating to possible incompetence or improper professional misconduct, or in return for not conducting such an investigation or proceeding. These records may also be disclosed as part of a computer matching program to accomplish these purposes.

17. Relevant information from this system of records concerning residents and interns employed at the VA Medical Centers, including names, social security numbers, occupational titles, and dates of service, may be disclosed to the Health Care Financing Administration as part of an ongoing computer matching program. The purpose of this computer matching program is to help assure that no intern or resident is counted as more than a full-time equivalent in accordance with program regulations governing Medicare education costs.

18. Relevant information from this system of records may be disclosed to individuals, organizations, private or public agencies or other agencies with whom VA has a contract or agreement or where there is a subcontract to perform services as VA may deem practicable for the purpose of laws administered by VA, in order for the contractor or subcontractor to perform the services of the contract or agreement. In accordance with the provisions of the contract or agreement, the contractor may disclose relevant information from this system of records to a third party. This includes the situation where relevant information may be disclosed to a third party upon the presentation or submission to the contractor by that third party of specific authorization or access data (e.g., an authorization code or number), which is obtained from VA or the VA contractor only by the individual employee to whom the information pertains. The employee's release of the specific authorization or access data to a third party indicates the employee's authorization for the disclosure of such information to that third party.

19. Identifying information in this system, including names, social security numbers, home addresses, dates of birth, dates of hire, quarterly earnings, employer identifying information, and State of hire of employees may be disclosed to the Office of Child Support Enforcement, Administration for Children and Families, Department of Health and Human Services Federal Parent Locator System (FPLS) for the purpose of locating individuals to establish paternity, establishing and modifying orders of child support, identifying sources of income, and for other child support enforcement actions as required by the Personal Responsibility and Work Opportunity Reconciliation Act (Welfare Reform Law, Pub. L. 104-193).

20. Information from this system of records may be released to the Social Security Administration for verifying social security numbers in connection with the operation of the FPLS by the Office of Child Support Enforcement.

21. To disclose information to the Federal Labor Relations Authority (including its General Counsel) when requested in connection with the investigation and resolution of allegations of unfair labor practices, in connection with the resolution of exceptions to arbitrator awards when a question of material fact is raised, in connection with matters before the Federal Service Impasses Panel, and to investigate representation petitions and conduct or supervise representation elections.

22. Information from this system of records may be released to the Department of Treasury for purposes of administering the Earned Income Tax Credit Program (Section 32, Internal Revenue Code of 1986) and verifying a claim with respect to employment in a tax return.

23. Any information in this system may be disclosed to the Department of Treasury, Internal Revenue Service (IRS), where required by law or regulation to report withholding information and to effect payment of taxes withheld to IRS and to create W-2's.

24. VA may disclose information from this system of records to a court administrative entity or custodial parent of a child in order to provide documentation for child health care insurance coverage in accordance with a court or administrative order as required by 5 U.S.C. 8905(h), as enacted by Public Law 106-394 and in accordance with the procedures stated in the applicable OPM Benefits Administration and Payroll Office Letters. VA may also disclose information from this system of records to healthcare insurance carriers in order to enroll employees and their children in healthcare insurance plans in accordance with Public Law 106-394.

25. Relevant information from this system of records, including social security number, date of birth, home address, and the amount of contributions, interfund transfers, or other financial information may be disclosed to the Federal Retirement Thrift Investment Board in order to effect employee participation in the Thrift Savings Plan.

26. Information from this system of records may be disclosed in response to legal processes, including interrogatories, served on the agency in connection with garnishment proceedings against current or former VA employees under 5 U.S.C. 5520a.

27. Transfer withholding tax information to State and/or city governments to effect payment of taxes to State and/or city governments and to create W-2's.

28. Transfer retirement record information to OPM in order to provide a history of service and retirement deductions.

29. Information and records in this system may be transferred to NARA to provide a history of all salaries, deductions, time and leave.

30. Transfer unemployment compensation information to State agencies to compile unemployment compensation data.

31. The name and general geographic location where an employee resides (not specific home addresses) may be disclosed by the facility Employee Transportation Coordinator to other employees in order to promote the car/vanpooling and ridesharing program established in accordance with Executive Order 12191 and to enable VA to verify membership in car and vanpools.

32. The name of the employee, social security number, beginning and ending pay period dates, the number of hours worked during a given pay period, the gross salary and duty station may be disclosed to the Department of Labor's (DOL) Office of Inspector General (OIG) in order for DOL's OIG to conduct a computer match of these records with various State unemployment benefit files. The purpose of this computer-matching program will be to determine if Federal employees have been improperly drawing State unemployment benefit payments. These payments are ultimately reimbursed to the State by the Federal Government.

33. VA may disclose from this system of records to the Department of Justice (DOJ), either on VA's initiative or in response to DOJ's request for information, after either VA or DOJ determines that such information is relevant to DOJ's representation of the United States or any of its components in legal proceedings before a court or adjudicative body, provided that, in each case, the agency also determines prior to disclosure that release of the records to DOJ is a use of the information contained in the records that is compatible with the purpose for which VA collected the records. VA, on its own initiative, may disclose records in this system of records in legal proceedings before a court or administrative body after determining that the disclosure of the records to the court or administrative body is a use of the information contained in the records that is compatible with the purpose for which VA collected the records.

34. Relevant information from this system of records, including available identifying data regarding the debtor, such as name of debtor, last known address of debtor, social security number of debtor, place and date of birth of the debtor, name and address of debtor's employer or firm, and dates of employment, may be disclosed to other Federal agencies. State probate courts, State driver's license bureaus, and State automobile title and license bureaus as a routine use in order to obtain current address, locator and credit report assistance in the collection of unpaid financial obligations owed to the United States. This purpose is consistent with the Governmentwide debt collection standards set forth at 38 U.S.C. Chapter 37, Subchapters I and II; 31 CFR parts 900-904; and VA regulations 38 CFR 1.900-1.954.

35. Any information in this system of records may be disclosed to a third party purchaser of delinquent debt sold pursuant to the provisions of 31 U.S.C. 3711(i).

36. To disclose to the Office of Federal Employees' Group Life Insurance information necessary to verify election, declination, or waiver of regular and/or optional life insurance coverage or eligibility for payment of a claim for life insurance.

37. To disclose information to health carriers contracting with OPM under the Federal Health Benefits Program that is necessary to identify eligibility for payments of a claim for health benefits, or to carry out the coordination or audit of benefits provisions of such contracts.

38. Any information in this system of records, including social security numbers and home addresses, may be disclosed to DFAS so that DFAS may process the payment of pay and allowances for VA employees.

39. Any information in this system of records including social security numbers may be disclosed to another Federal agency when that agency has been requested to conduct a Federal salary offset hearing under 5 U.S.C. 5514(a)(2)(D) for VA employees.

40. Disclosures to other Federal agencies may be made to assist such agencies in preventing and detecting possible fraud or abuse by individuals in their operations and programs.

41. VA may own its own initiative disclose any information or records to the appropriate agencies, entities, and persons when (1) VA suspects or has confirmed that the integrity or confidentiality of information in the system of records has been compromised; (2) VA has determined that as a result of the suspected or confirmed compromise, there is a risk of embarrassment or harm to the reputations of the record subjects, harm to economic or property interests, identity theft or fraud, or harm to the security, confidentiality, or integrity of this system or other systems or programs (whether maintained by VA or another agency or entity) that rely upon the potentially compromised information; and (3) the disclosure is to agencies, entities or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms as defined in 38 U.S.C. 5727.

42. VA may disclose information from this system to the Merit Systems Protection Board or the Office of Special Counsel when requested in connection to appeals, special studies of the civil service and other merit systems, review of rules and regulations, investigation of alleged or possible prohibited personnel practices, and such other functions promulgated in 5 U.S.C. 1205 and 1206, or as authorized by law.

43. VA may disclose information from this system to the Federal Labor Relations Authority, including its General Counsel, information related to the establishment of jurisdiction, investigation, and resolution of allegations of unfair labor practices, or in connection with the resolution of exceptions to arbitration awards when a question of material fact is raised; for it to address matters properly before the Federal Services Impasses Panel, investigate representation petitions, and conduct or supervise representative elections.

44. VA may disclose information from this system to the Equal Employment Opportunity Commission when requested in connection with investigations of alleged or possible discriminatory practices, examination of Federal affirmative employment programs, or other functions of the Commission as authorized by law or regulation.

45. VA may disclose information or records from this system to appropriate Federal Government agencies, upon request, for employee accountability purposes, during the time of a declared national, state or local emergency.

46. Any information in this system of records may be disclosed to the Secretary of the Treasury, or to any designated Government disbursing official, for the purpose of conducting administrative offset of any eligible Federal payments in order to collect debts owed to the United States under the authority set forth in 31 U.S.C. 3716. Tax refund and Federal salary payments may be included in those Federal payments eligible for administrative offset.

47. Any information in this system of records concerning a delinquent debt may be disclosed to the Secretary of the Treasury for appropriate collection or termination action, including the transfer of the indebtedness for collection or termination, in accordance with 31 U.S.C. 3711(g) (4), to DFAS, to a debt collection center designated by the Secretary of the Treasury, to a private collection agency, or to DOJ. The Secretary of the Treasury, a designated debt collection center, a private collection agency or DOJ, may take appropriate action on a debt in accordance with the existing laws under which the debt arose.

The notice of intent to establish and an advance copy of the system notice have been sent to the appropriate Congressional committees and to the Director of OMB as required by 5 U.S.C. 552a(r) (Privacy Act) and guidelines issued by OMB (65 FR 77677), December 12, 2000.

Approved: September 30, 2013.
Jose D. Riojas,
Chief of Staff, Department of Veterans Affairs.

171VA056A

SYSTEM NAME:

“Human Resources Information System Shared Service Center (HRIS SSC)—VA” (171VA056A).

SYSTEM LOCATION:

The primary Data Center is located at 1506 Moran Road, Dulles, VA 20166; the backup or disaster recovery site is located at 120 East Van Buren, Phoenix, AZ 85004. Monster On-Boarding System serves as the VA On-Boarding System. The Monster On-Boarding System and all associated records will be located at a primary site in Ashburn, VA (Equinix, 21701 Filigree Ct, Ashburn, VA 20147) and at a secondary site in McLean, VA (Monster Government Solution, 8280 Greensboro Drive, Suite 900, McLean, VA 22102).

CATEGORIES OF INDIVIDUALS COVERED BY THE SYSTEM:

Individuals covered by the system include all VA employees, Consultants, Interns, Residents, Without Compensation Employees and Fee Basis employees; applicants for appointment under authority of 38 U.S.C. Chapter 73; applicants for appointment under 38 U.S.C. Chapter 75 in the Veterans Canteen Service; applicants for employment under 5 U.S.C. Chapter 23.

CATEGORIES OF RECORDS IN THE SYSTEM:

These records include, but are not limited to: Name; home address; social security number; taxpayer identification number; date of birth; grade; race; employing organization; timekeeper number; salary; pay plan; number of hours worked, including compensatory time; leave accrual rate, usage, and balances; records related to retirement and benefit elections; FICA withholdings; Federal, State, and local tax withholdings; records related to travel expenses and payments; telework indicator codes; carpool and ridesharing program records (e.g., name, address, office location at the facility); public transportation benefit program records; records related to garnishments, deductions, allotments, and direct deposit/electronic funds transfer (DD/EFT); and records related to background information investigations. For persons who have applied for Federal employment, the system may include additional records relating to their education and training; licensure, registration or certification by State licensing boards and/or national certifying bodies, including any finding of facts, evidence and any other related documents pertaining to a disciplinary action; prior and/or current clinical privileges; employment history, appraisals of past performance; convictions of offenses against the law; appraisals of potential honors, awards or fellowships; military service; veterans' preference; or birthplace.

AUTHORITY FOR MAINTENANCE OF THE SYSTEM:

38 U.S.C. 501(a); 38 U.S.C. 73; 38 U.S.C. 75 SEC 4202; 5 U.S.C. Part III, Subparts D and E.

PURPOSES:

The system is the official repository of the personnel information, reports of personnel actions and the documents associated with these actions. The personnel action reports and other documents give legal force and effect to personnel transactions and establish employee rights and benefits under pertinent laws and regulations governing Federal employment. They provide the basic source of factual data about a person's Federal employment while in the service and after his or her separation. Records in this system have various uses, including screening qualifications of employees; determining status eligibility, and rights and benefits under pertinent laws and regulations governing Federal employment; computing length of service; and other information needed to provide personnel services.

ROUTINE USES OF RECORDS MAINTAINED IN THE SYSTEM, INCLUDING CATEGORIES OF USERS AND THE PURPOSES OF SUCH USES:

1. Information from this system may be disclosed to produce and maintain the official personnel records, including reports and statistical data, of VA employees for use by Federal, State and local agencies and organizations authorized by law or regulation to have access to such information. These records may be disclosed as part of an ongoing matching program to accomplish these purposes.

2. Information from this system may be disclosed to transfer personnel data to Office of Personnel Management (OPM) in order to provide OPM with a readily accessible major data source for meeting the work force information needs of OPM, national planning agencies, the Congress, the White House and the public.

3. VA, on its own initiative, may disclose any information in this system which is relevant to a suspected violation or reasonable imminent violation of law, whether civil, criminal, or regulatory in nature, and whether arising by general or program statute or by regulation, rule, or order issued pursuant thereto, to any Federal, foreign, State, tribal or local government agency charged with responsibility of investigating or prosecuting such violations, or charged with enforcing or implementing the statute, rule, regulation, or order.

4. A record from this system may be disclosed as a routine use to a Federal, State or local agency, or to a non-governmental organization maintaining civil, criminal or other relevant information, such as current licenses, registration or certification, if necessary to obtain information relevant to an agency decision concerning the hiring or retention of an employee, the use of an individual as a consultant, attending or to provide fee basis health care, the issuance of a security clearance, the letting of a contract, or the issuance of a license, grant or other benefits. These records may also be disclosed as part of an ongoing computer matching program to accomplish these purposes.

5. A record from this system may be disclosed to a Federal, State or local agency, in response to its request, in connection with the hiring or retention of an employee, the issuance of a security clearance, the conducting of a security or suitability investigation of an individual, the letting of a contract or the issuance of a license, grant or other benefit by the requesting agency, to the extent that the information is relevant and necessary to the requesting agency's decision on the matter.

6. The record of an individual who is covered by this system may be disclosed to a Member of Congress or a staff person acting for a Member, when the Member or staff person requests the record on behalf of, and at the written request of, the individual.

7. Information from this system may be disclosed to the National Archives and Records Administration (NARA) and General Services Administration (GSA) in records management inspections conducted under the authority of 44 U.S.C. 2906 and the implementing regulations.

8. Information from this system may be disclosed to transfer human resources and payroll information to complete payroll Checks and DD/EFT, bond deductions, and withholding taxes to the Defense Finance Accounting System (DFAS) to effect delivery of salary payments to VA employees.

9. Information from this system may be disclosed to transfer payroll information to the Social Security Administration in order to credit quarterly posting for social security.

10. Relevant information from this system, including the nature and amount of a financial obligation may be disclosed as a routine use in order to assist VA in the collection of unpaid financial obligations owed to VA, to a debtor's employing agency or commanding officer. This purpose is consistent with the Governmentwide debt collection standards set forth at 31 U.S.C., Chapter 37, subchapters I and II, 31 CFR parts 900-904, and VA regulations 38 CFR 1.900-1.954.

11. Information from this system may be disclosed to provide State and local taxing authorities with employee names, home addresses, social security numbers, gross compensation paid for a given period, taxes withheld for the benefit of the recipient jurisdiction or other jurisdictions, according to the provisions of State and/or local law.

12. Records from this system may be disclosed to a Federal, State or local government agency or licensing board and/or to the Federation of State Medical Boards or a similar nongovernment entity. These entities maintain records concerning an individual's employment or practice histories or concerning the issuance, retention or revocation of licenses, certifications, or registration necessary to practice an occupation, profession or specialty.

13. Records from this system may be disclosed in order for the agency to obtain information deemed relevant to an agency decision concerning the hiring, retention or termination of an employee. Records may also be disclosed to inform a Federal Agency or licensing boards or the appropriate nongovernment entities about the health care practices of a terminated, resigned or retired health care employee whose professional health care activity so significantly failed to conform to generally accepted standards of professional medical practice as to raise reasonable concern for the health and safety of patients. These records may also be disclosed as part of an ongoing computer matching program to accomplish these purposes.

14. Information from this system may be disclosed to any State, local, or foreign civil or criminal law enforcement governmental agency or instrumentality charged under applicable law with the protection of the public health or safety for the purpose of protecting public health or safety if qualified representatives of such agency or instrumentality has made a written request that such information be provided in order to meet a statutory reporting requirement.

15. Identifying information from this system, including name, address, social security number and other information as is reasonably necessary to identify such individual, may be disclosed to the National Practitioner Data Bank at the time of hiring and/or clinical privileging/re-privileging of health care practitioners, and other times as deemed necessary by VA in order for VA to obtain information to make a decision concerning the hiring, privileging/re-privileging, retention or termination of the applicant or employee.

16. Relevant information from this system may be disclosed to the National Practitioner Data Bank and/or State Licensing Board in the State(s) in which a practitioner is licensed, in which the VA facility is located, and/or in which an act or omission occurred upon which a medical malpractice claim was based when VA reports information concerning: (1) Any payment for the benefit of a physician, dentist, or other licensed health care practitioner which was made as the result of a settlement or judgment of a claim of medical malpractice if an appropriate determination is made in accordance with agency policy that payment was related to substandard care, professional incompetence or professional misconduct on the part of the individual; (2) a final decision which relates to possible incompetence or improper professional conduct that adversely effects the clinical privileges of a physician or other licensed health care practitioner for a period longer than 30 days; or (3) the acceptance of the surrender of clinical privileges or any restriction of such privileges by a physician or other licensed health care practitioners either while under investigation by the health care entity relating to possible incompetence or improper professional misconduct, or in return for not conducting such an investigation or proceeding. These records may also be disclosed as part of a computer matching program to accomplish these purposes.

17. Relevant information from this system concerning residents and interns employed at the VA Medical Centers, including names, social security numbers, occupational titles, and dates of service, may be disclosed to the Health Care Financing Administration as part of an ongoing computer matching program. The purpose of this computer matching program is to help assure that no intern or resident is counted as more than a full-time equivalent in accordance with program regulations governing Medicare education costs.

18. Relevant information from this system may be disclosed to individuals, organizations, private or public agencies or other agencies with whom VA has a contract or agreement or where there is a subcontract to perform services as VA may deem practicable for the purpose of laws administered by VA, in order for the contractor or subcontractor to perform the services of the contract or agreement. In accordance with the provisions of the contract or agreement, the contractor may disclose relevant information from this system of records to a third party. This includes the situation where relevant information may be disclosed to a third party upon the presentation or submission to the contractor by that third party of specific authorization or access data (e.g., an authorization code or number), which is obtained from VA or the VA contractor only by the individual employee to whom the information pertains. The employee's release of the specific authorization or access data to a third party indicates the employee's authorization for the disclosure of such information to that third party.

19. Identifying information from this system, including names, social security numbers, home addresses, dates of birth, dates of hire, quarterly earnings, employer identifying information, and State of hire of employees may be disclosed to the Office of Child Support Enforcement, Administration for Children and Families, Department of Health and Human Services Federal Parent Locator System (FPLS) for the purpose of locating individuals to establish paternity, establishing and modifying orders of child support, identifying sources of income, and for other child support enforcement actions as required by the Personal Responsibility and Work Opportunity Reconciliation Act (Welfare Reform Law, Pub. L. 104-193).

20. Information from this system may be released to the Social Security Administration for verifying social security numbers in connection with the operation of the FPLS by the Office of Child Support Enforcement.

21. Information from this system may disclose information to the Federal Labor Relations Authority (including its General Counsel) when requested in connection with the investigation and resolution of allegations of unfair labor practices, in connection with the resolution of exceptions to arbitrator awards when a question of material fact is raised, in connection with matters before the Federal Service Impasses Panel, and to investigate representation petitions and conduct or supervise representation elections.

22. Information from this system may be released to the Department of Treasury for purposes of administering the Earned Income Tax Credit Program (Section 32, Internal Revenue Code of 1986) and verifying a claim with respect to employment in a tax return.

23. Information from this system may be disclosed to the Department of Treasury, Internal Revenue Service (IRS), where required by law or regulation to report withholding information and to effect payment of taxes withheld to IRS and to create W-2's.

24. VA may disclose information from this system to a court administrative entity or custodial parent of a child in order to provide documentation for child health care insurance coverage in accordance with a court or administrative order as required by 5 U.S.C. 8905(h), as enacted by Public Law 106-394 and in accordance with the procedures stated in the applicable OPM Benefits Administration and Payroll Office Letters. VA may also disclose information from this system of records to health care insurance carriers in order to enroll employees and their children in health care insurance plans in accordance with Public Law 106-394.

25. Relevant information from this system, including social security number, date of birth, home address, and the amount of contributions, interfund transfers, or other financial information may be disclosed to the Federal Retirement Thrift Investment Board in order to effect employee participation in the Thrift Savings Plan.

26. Information from this system may be disclosed in response to legal processes, including interrogatories, served on the agency in connection with garnishment proceedings against current or former VA employees under 5 U.S.C. 5520a.

27. Information from this system may be disclosed to transfer withholding tax information to State and/or city governments to effect payment of taxes to State and/or city governments and to create W-2's.

28. Information from this system may be disclosed to transfer retirement record information to OPM in order to provide a history of service and retirement deductions.

29. Information and records in this system may be transferred to NARA to provide a history of all salaries, deductions, time and leave.

30. Information from this system may be disclosed to transfer unemployment compensation information to State agencies that compile unemployment compensation data.

31. The name and general geographic location where an employee resides (not specific home addresses) may be disclosed by the facility Employee Transportation Coordinator to other employees in order to promote the car/vanpooling and ridesharing program established in accordance with Executive Order 12191 and to enable VA to verify membership in car and vanpools.

32. The name of the employee, social security number, beginning and ending pay period dates, the number of hours worked during a given pay period, the gross salary and duty station may be disclosed to the Department of Labor's (DOL) Office of Inspector General (OIG) in order for DOL's OIG to conduct a computer match of these records with various State unemployment benefit files. The purpose of this computer-matching program will be to determine if Federal employees have been improperly drawing State unemployment benefit payments. These payments are ultimately reimbursed to the State by the Federal Government.

33. VA may disclose from this system to the Department of Justice (DOJ), either on VA's initiative or in response to DOJ's request for information, after either VA or DOJ determines that such information is relevant to DOJ's representation of the United States or any of its components in legal proceedings before a court or adjudicative body, provided that, in each case, the agency also determines prior to disclosure that release of the records to DOJ is a use of the information contained in the records that is compatible with the purpose for which VA collected the records. VA, on its own initiative, may disclose records in this system of records in legal proceedings before a court or administrative body after determining that the disclosure of the records to the court or administrative body is a use of the information contained in the records that is compatible with the purpose for which VA collected the records.

34. Relevant information from this system, including available identifying data regarding the debtor, such as name of debtor, last known address of debtor, social security number of debtor, place and date of birth of the debtor, name and address of debtor's employer or firm, and dates of employment, may be disclosed to other Federal agencies. State probate courts, State driver's license bureaus, and State automobile title and license bureaus as a routine use in order to obtain current address, locator and credit report assistance in the collection of unpaid financial obligations owed to the United States. This purpose is consistent with the Governmentwide debt collection standards set forth at 38 U.S.C. Chapter 37, Subchapters I and II; 31 CFR parts 900-904; and VA regulations 38 CFR 1.900-1.954.

35. Any information in this system may be disclosed to a third party purchaser of delinquent debt sold pursuant to the provisions of 31 U.S.C. 3711(i).

36. Information from this system may be disclosed to the Office of Federal Employees' Group Life Insurance Information necessary to verify election, declination, or waiver of regular and/or optional life insurance coverage or eligibility for payment of a claim for life insurance.

37. Information from this system may be disclosed to health carriers contracting with OPM under the Federal Health Benefits Program that is necessary to identify eligibility for payments of a claim for health benefits, or to carry out the coordination or audit of benefits provisions of such contracts.

38. Any information from this system, including social security numbers and home addresses, may be disclosed to DFAS so that DFAS may process the payment of pay and allowances for VA employees.

39. Any information in this system including social security numbers may be disclosed to another Federal agency when that agency has been requested to conduct a Federal salary offset hearing under 5 U.S.C. 5514(a)(2)(D) for VA employees.

40. Disclosure to other Federal agencies may be made to assist such agencies in preventing and detecting possible fraud, waste, overpayment, or abuse by individuals in their operations and programs as well as identifying areas where legislative and regulatory amendments directed toward preventing overpayments. These records may also be disclosed as part of an ongoing computer-matching program to accomplish this purpose.

41. VA may on its own initiative disclose any information or records to the appropriate agencies, entities, and persons when (1) VA suspects or has confirmed that the integrity or confidentiality of information in the system of records has been compromised; (2) VA has determined that as a result of the suspected or confirmed compromise, there is a risk of embarrassment or harm to the reputations of the record subjects, harm to economic or property interests, identity theft or fraud, or harm to the security, confidentiality, or integrity of this system or other systems or programs (whether maintained by VA or another agency or entity) that rely upon the potentially compromised information; and (3) the disclosure is to agencies, entities or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms as defined in 38 U.S.C. 5727.

42. VA may disclose information from this system to the Merit Systems Protection Board or the Office of Special Counsel when requested in connection to appeals, special studies of the civil service and other merit systems, review of rules and regulations, investigation of alleged or possible prohibited personnel practices, and such other functions promulgated in 5 U.S.C. 1205 and 1206, or as authorized by law.

43. VA may disclose information from this system to the Federal Labor Relations Authority, including its General Counsel, information related to the establishment of jurisdiction, investigation, and resolution of allegations of unfair labor practices, or in connection with the resolution of exceptions to arbitration awards when a question of material fact is raised; for it to address matters properly before the Federal Services Impasses Panel, investigate representation petitions, and conduct or supervise representative elections.

44. VA may disclose information from this system to the Equal Employment Opportunity Commission when requested in connection with investigations of alleged or possible discriminatory practices, examination of Federal affirmative employment programs, or other functions of the Commission as authorized by law or regulation.

45. VA may disclose information or records from this system to appropriate Federal Government agencies, upon request, for employee accountability purposes, during the time of a declared national, State or local emergency.

46. Information in this system may be disclosed to the Secretary of the Treasury, or to any designated Government disbursing official, for the purpose of conducting administrative offset of any eligible Federal payments in order to collect debts owed to the United States under the authority set forth in 31 U.S.C. 3716. Tax refund and Federal salary payments may be included in those Federal payments eligible for administrative offset.

47. Information in this system of records concerning a delinquent debt may be disclosed to the Secretary of the Treasury for appropriate collection or termination action, including the transfer of the indebtedness for collection or termination, in accordance with 31 U.S.C. 3711(g)(4), to DFAS, to a debt collection center designated by the Secretary of the Treasury, to a private collection agency, or to DOJ. The Secretary of the Treasury, a designated debt collection center, a private collection agency or DOJ, may take appropriate action on a debt in accordance with the existing laws under which the debt arose.

POLICIES AND PRACTICES FOR STORING, RETRIEVING, ACCESSING, RETAINING, AND DISPOSING OF RECORDS IN THE SYSTEM:

STORAGE:

Records will be stored in electronic storage media located within the primary Data Center and backup site. Portable media and hardcopy documents will be stored in a GSA-approved combination safe. On-Boarding System—Computer storage media.

RETRIEVABILITY:

Electronic records are indexed by Employee Identification Number and social security number. Information can be retrieved by any data field within the system.

SAFEGUARDS:

VA employees will have access to their own individual online records using a username and password credentials, or by using Personal Identity Verification (PIV). Privileged users such as Human Resources Administrators and report generators will access online records other than their own, consistent with their authority and organizational affiliations using a username and password credentials. Contractors fulfilling system administrator roles will access the VA HRIS SSC system using two-factor authentication.

Physical Security—Physical security to the records will be maintained by a physical barrier and guarded by security guards at all times. Physical controls include: (1) GSA-approved combination safes; (2) Locked rooms/areas with controlled access; (3) roving guards; and (4) Two-Person Integrity (e.g., one person has keyed access to the room where the safe is kept, while a different person has the combination to the safe).

On-Boarding System—Access to these records is restricted to authorized VA employees, contractors, or subcontractors on a “need to know” basis by means of unique user identification and passwords. Offices where these records are maintained are locked after working hours and are protected from access by the Federal Protective Service, other security officers and alarm systems.

RETENTION AND DISPOSAL:

The Shared Service Center provider will comply with all VA retention and disposal procedures specified in VA Handbook 6300 and VA Directive 6300. Records contained in the VA HRIS SSC will be retained as long as the information is needed in accordance with a NARA-approved retention period.

All electronic storage media used to store, process, or access VA HRIS SSC records will be disposed of in adherence with the latest version of VA Handbook 6500.1, Electronic Media Sanitization.

Retention (of Records)—Records contained in the VA On-Boarding System will be retained as long as the information is needed in accordance with a NARA-approved retention period.

All electronic storage media used to store, process, or access VA On-Boarding System records will be disposed of in adherence with the latest version of VA Handbook 6500.1, Electronic Media Sanitization.

SYSTEM MANAGER(S) AND ADDRESS:

Deputy Assistant Secretary for Human Resources Management, Department of Veterans Affairs, VA Central Office, Washington, DC 20420.

NOTIFICATION PROCEDURE:

Any individual seeking information concerning the existence of a personnel record pertaining to them must submit a written request to the VA station of employment. Inquiries should include the employee's full name, social security number, date of birth, office and return address.

RECORDS ACCESS PROCEDURE:

Employees or representatives designated in writing seeking information regarding access to VA records may write, email or call the VA office of employment.

CONTESTING RECORD PROCEDURES:

Employees or representatives designated in writing seeking information regarding contesting VA records may write, email or call the VA office of employment.

RECORD SOURCE CATEGORIES:

Personnel records, information received from employees, VA officials, other Government and State agencies.

[FR Doc. 2013-24830 Filed 10-22-13; 8:45 am]

BILLING CODE 8320-01-P